DEPARTMENT OF VETERANS AFFAIRS

Advisory Committee on Prosthetics and Special-Disabilities Programs; Notice of Meeting

The Department of Veterans Affairs (VA) gives notice under Public Law 92-463 (Federal Advisory Committee Act) that a meeting of the Advisory Committee on Prosthetics and Special-Disabilities Programs will be held on November 1-2, 2011, in Room 230, at VA Central Office, 810 Vermont Avenue, NW., Washington, DC. The sessions will convene at 8:30 a.m. on both days, and will adjourn at 4:30 p.m. on November 1 and at 12 noon on November 2. The meeting is open to the public.

The purpose of the Committee is to advise the Secretary of Veterans Affairs on VA's prosthetics programs designed to provide state-of-the art prosthetics and the associated rehabilitation research, development, and evaluation of such technology. The Committee also provides advice to the Secretary on special disabilities programs which are defined as any program administered by the Secretary to serve Veterans with spinal cord injuries, blindness or visual impairments, loss of extremities or loss of function, deafness or hearing impairment, and other serious incapacities in terms of daily life functions.

On November 1, the Committee will be briefed by the Chief Disability and Medical Assessment Officer; Physical Therapy Program Specialist; Executive Director, Federal Recovery Coordination Program; Deputy Director, Recreation Therapy; Director, Amputation System of Care; and Deputy Chief Consultant, Prosthetics and Sensory Aids Service. On November 2, the Committee Chair will provide remarks and the Committee will hear from the VA Librarian on research services available to the Committee. Additionally, the Committee will discuss future agenda topics.

No time will be allocated for receiving oral presentations from the public. However, members of the public may submit written statements for review by the Committee to Mr. Larry N. Long, Designated Federal Officer, Department of Veterans Affairs, Veterans Health Administration, Patient Care Services, Rehabilitation Services (10P4RD), 810 Vermont Avenue, NW., Washington, DC 20420, or by e-mail at lonlar@va.gov. Any member of the public wanting additional information or to attend the meeting should contact Mr. Long at (202) 461-7354.

By Direction of the Secretary.
Vivian Drake,
Committee Management Officer.

[FR Doc. 2011-26849 Filed 10-17-11; 8:45 am]

BILLING CODE P